DEPARTMENT OF THE TREASURY

Departmental Offices; Proposed Collections; Comment Requests

ACTION: Notice and request for comments.

SUMMARY: The Department of the Treasury, as part of its continuing effort to reduce paperwork burdens, invites the general public and other Federal agencies to comment on a new information collection that is to be proposed for approval by the Office of Management and Budget. The Office of International Affairs of the Department of the Treasury is soliciting comments concerning Treasury International Capital Form SLT, Report of U.S. and Foreign Resident Aggregate Holdings of Long-Term Securities.

The recent global financial crisis has highlighted the importance of enhanced surveillance of the world economy. As a consequence, the international financial community has a heightened awareness of the importance of collecting economic and financial data, including more frequent and accurate data regarding each country's external claims and liabilities. As a result, the United States needs to collect certain data on a more frequent and accurate basis, including monthly holdings of long-term securities. Data on securities are important because they constitute a large portion of U.S. external claims and liabilities. The Treasury International Capital (TIC) data reporting system currently collects monthly data on holdings of short-term securities and on purchases and sales of long-term securities. It also collects data annually, but not monthly, on holdings of long-term securities. Although the annual data currently collected on holdings of long-term securities, together with the monthly data on purchases and sales, can be used to estimate aggregate monthly holdings of long-term securities, the time required to produce the estimates is lengthy and the estimates must usually be revised substantially when the subsequent annual survey is released. Consequently, the Department of the Treasury is proposing the Form SLT to collect data on holdings of long-term securities on a monthly basis so as to ensure more timely and accurate measurement of the aggregate holdings of long-term securities. That, in turn, will help improve the preparation of the U.S. balance of payments accounts and the U.S. international investment position, as well as the formulation of U.S. international financial and monetary policies.

DATES: Written comments should be received on or before October 18, 2010 to be assured of consideration.

ADDRESSES: Direct all written comments to Dwight Wolkow, International Portfolio Investment Data Systems, Department of the Treasury, Room 5422, 1500 Pennsylvania Avenue NW., Washington, DC 20220. In view of possible delays in mail delivery, please also notify Mr. Wolkow by email (dwight.wolkow@do.treas.gov), FAX (202-622-2009) or telephone (202-622-1276).

FOR FURTHER INFORMATION CONTACT: Copies of the proposed forms and instructions are available on the Treasury's TIC Forms webpage, http://www.treas.gov/tic/forms.html. Requests for additional information should be directed to Mr. Wolkow.

SUPPLEMENTARY INFORMATION: Title: Treasury International Capital Form SLT, Report of U.S. and Foreign Resident Aggregate Holdings of Long-Term Securities.

OMB Control Number: NEW.

Abstract: Form SLT will be part of the Treasury International Capital (TIC) reporting system, which is required by law (22 U.S.C. 286f; 22 U.S.C. 3103; E.O. 10033; 31 CFR Part 128) for the purpose of providing timely information on international capital movements. Form SLT will be used to collect monthly data on cross-border ownership by U.S. and foreign residents of long-term securities for portfolio investment purposes. These data will be used by the U.S. Government in the formulation of international and financial policies and for the preparation of the U.S. balance of payments accounts and the U.S. international investment position.

Current Actions: (a) The fair values of long-term U.S. securities owned by foreign residents and long-term foreign securities owned by U.S. residents are to be reported on Form SLT. (b) The reporting panel for Form SLT consists of U.S.-resident custodians, U.S.-resident issuers of U.S. securities, and U.S.-resident end-investors in foreign securities, where for each reporting entity, the consolidated total of all reportable long-term U.S. and foreign securities on the last business day of the reporting month has a total fair value equal to or more than the exemption level. The exemption level is $1 billion. This consolidated total includes amounts held for a reporting entity's own account and for customers. The reporting entity should include reportable securities for all U.S.-resident parts of the reporting entity, including all U.S. subsidiaries and affiliates of the reporting entity and investment companies, trusts, and other legal entities created by the reporting entity. U.S.-resident entities include the affiliates in the United States of foreign entities. Reportable long-term securities include: (1) U.S. securities held by U.S.-resident custodians on behalf of foreign residents; (2) foreign securities held by U.S.-resident custodians on behalf of U.S. residents; (3) U.S. securities issued by U.S.-resident issuers in foreign markets and held directly by foreign residents, i.e., where no U.S.-resident custodian or U.S.-resident central securities depository is used by the U.S.-resident issuer; and (4) foreign securities held directly by U.S.-resident end-investors, i.e., where no U.S.-resident custodian is used by the U.S.-resident end-investor. Securities held as part of a direct investment relationship should not be reported. (c) Form SLT consists of Parts A and B, each of which is divided into 13 columns. Part A is required to be completed by U.S.-resident custodians (including U.S.-resident central securities depositories). Columns 1 through 9 of Part A capture long-term U.S. securities owned by foreign residents that are held by U.S.-resident custodians. Columns 10 through 13 of Part A capture foreign securities owned by U.S. residents that are held by U.S.-resident custodians. Part B is required to be completed by U.S.-resident issuers and U.S.-resident end-investors, including funds and investment managers. Columns 1 through 9 of Part B, to be completed by U.S.-resident issuers, capture long-term U.S. securities that are issued by them in foreign markets and are held directly by foreign residents, i.e. where no U.S.-resident custodian or U.S.-resident central securities depository is used by the U.S.-resident issuer. Columns 10 through 13 of Part B, to be completed by U.S.-resident end-investors, capture long-term foreign securities that are owned directly by them, i.e. where no U.S.-resident custodian is used by the U.S.-resident end-investor. If a reporting entity is both a U.S.-resident custodian and a U.S.-resident issuer and/or a U.S.-resident end-investor, then both Parts A and B must be completed. (d) In both Parts A and B, columns 1 through 9 cover U.S. securities owned by foreign residents, where each row denotes the residence of the foreign holder. Each of the columns captures a different type of long-term U.S. securities: Columns 1 and 2 cover U.S. Treasury and Federal Financing Bank Bonds and Notes; columns 3 and 4 cover Bonds of U.S. Government Corporations and Federally Sponsored Agencies; columns 5 and 6 cover U.S. Corporate and Other Bonds; and columns 7 and 8 cover U.S. Equity. Further, each of the columns is also subdivided into the two types of foreign holders: foreign official institutions (columns 1, 3, 5, and 7) and all other foreigners (columns 2, 4, 6 and 8). Column 9 is the total of columns 1 through 8. Columns 10 through 13 cover foreign securities owned by U.S. residents, where each row denotes the residence of the foreign issuer. Each of the columns captures a different type of foreign security: Column 10 covers Foreign Government Bonds, column 11 covers Foreign Corporate and Other Bonds, and column 12 covers Foreign Equity. Column 13 is the total of columns 10, 11 and 12. The Grand Total of each column is reported in row 9999-6. (e) For each Grand Total, additional detailed subtotals are also to be reported. For that purpose, the Grand Total of each column (row 9999-6) is broken out, depending on the column, into the following subtotals: Type of Security (Asset-Backed Securities and Fund Shares); Type of U.S. Issuer (Depository Institutions, Other Financial Institutions, and Non-Financial Institutions); and Type of U.S. Holder (Depository Institutions, Other Financial Institutions, and Non-Financial Institutions). (f) In any month in which the consolidated total of all reportable long-term U.S. and foreign securities for a reporting entity has a total fair value equal to or more than the exemption level on the last business day of a reporting month, that reporting entity must submit a report for that month. In addition, the reporting entity also must submit a report for each remaining month in that calendar year, regardless of the consolidated total of reportable long-term U.S. and foreign securities held in any subsequent month. (g) These mandatory reporting requirements will be phased in during 2011. In 2011, the Form SLT will be required to be submitted quarterly as of June 30, September 30, and December 30, with the mandatory monthly reporting on Form SLT beginning with the report as of January 31, 2012.

Type of Review: NEW.

Affected Public: Business or other for profit organizations.

Form: SLT (NEW).

Estimated Number of Respondents: 150.

Estimated Average Time per Respondent: 9.4 hours per respondent per filing, effective with the report as of January 2012 when mandatory monthly reporting is fully implemented. The estimated average time per respondent varies widely from about 17 hours for a U.S.-resident custodian filing Part A to about five hours for a U.S.-resident issuer or U.S.-resident end-investor filing Part B.

Estimated Total Annual Burden Hours: 21,500 hours, based on 12 reporting periods per year.

Request for Comments: Comments submitted in response to this notice will be summarized and/or included in the request for Office of Management and Budget approval. All comments will become a matter of public record. The public is invited to submit written comments concerning: (a) Whether Form SLT is necessary for the proper performance of the functions of the Office, including whether the information will have practical uses; (b) the accuracy of the above estimate of the burdens; (c) ways to enhance the quality, usefulness, and clarity of the information to be collected; (d) ways to minimize the reporting and/or record keeping burdens on respondents, including the use of information technologies to automate the collection of the data; and (e) estimates of capital or start-up costs of operation, maintenance, and purchase of services to provide information.

Dwight Wolkow,
Administrator, International Portfolio Investment Data Systems.

[FR Doc. 2010-20347 Filed 8-17-10; 8:45 am]

BILLING CODE 4810-25-P